DEPARTMENT OF TRANSPORTATION

Pipeline and Hazardous Materials Safety Administration

[Docket No. PHMSA-2014-0134, Notice No. 14-04]

Safety Advisory: Packaging and Handling Ebola Virus Contaminated Infectious Waste for Transportation to Disposal Sites

AGENCY: Pipeline and Hazardous Materials Safety Administration (PHMSA), DOT.

ACTION: Safety Advisory Notice.

SUMMARY: PHMSA is issuing this safety advisory to provide guidance on the U.S. Department of Transportation's (DOT) Hazardous Materials Regulations (HMR; 49 CFR, parts 171-180) to persons who prepare, offer, and transport materials contaminated or suspected of being contaminated with the Ebola virus.

FOR FURTHER INFORMATION CONTACT: Charles E. Betts, Office of Hazardous Materials Safety, Standards and Rulemaking Division, (202) 366-8553, Pipeline and Hazardous Materials Safety Administration, U.S. Department of Transportation, 1200 New Jersey Ave. SE., Washington, DC 20590-0001.

SUPPLEMENTARY INFORMATION: This Safety Advisory provides guidance on the U.S. Department of Transportation's (DOT) Hazardous Materials Regulations (HMR; 49 CFR, parts 171-180) to persons who prepare, offer and transport materials contaminated or suspected of being contaminated with the Ebola virus. The HMR apply to any material that the DOT determines is capable of posing an unreasonable risk to health, safety, and property when transported in commerce.¹ Material contaminated or suspected of being contaminated with Ebola is regulated as a Category A infectious substance under the HMR. To ensure their safe transportation, the Ebola contaminated materials must be packaged in conformity with the applicable requirements in the HMR for Category A infectious substances. Ebola contaminated materials that have been appropriately incinerated, autoclaved, or otherwise inactivated are not considered Category A infectious substances and are not subject to the requirements of the HMR. For more information on the HMR requirements see http://phmsa.dot.gov/hazmat/transporting-infectious-substances. For guidance on how to handle infectious substances before transporting them, refer to the Centers for Disease Control and Prevention (CDC) (see http://www.cdc.gov/vhf/ebola/hcp/index.html).

¹ The HMR applies to interstate, intrastate, and foreign commerce.

This document is intended to provide general guidance and does not address many of the specific provisions and exceptions contained in the HMR. It should not be used as a substitute for the HMR to determine compliance. Strict compliance with the HMR is required, unless you have been granted a special permit.

Transportation of a hazardous material in a motor vehicle, aircraft, or vessel operated by a Federal, state, or local government employee solely for noncommercial Federal, state, or local government purposes is not subject to the HMR. Accordingly, waste generated from the treatment of a patient contaminated or suspected of being contaminated with the Ebola virus transported by a Federal, state, or local government employee to a disposal facility is not subject to the HMR. DOT, however, recommends that Federal, state, or local governments comply with appropriate safety requirements provided in the HMR to ensure the safe transportation of waste contaminated or suspected of being contaminated with the Ebola virus. We also recommend compliance with all conditions and operational controls specified in any applicable special permit issued for the transportation of waste contaminated or suspected of being contaminated with the Ebola virus and our guidance referred to below. To transport materials contaminated or suspected of being contaminated with the Ebola virus, a special permit may be necessary to allow for a variance of the HMR packaging requirements to handle the larger volume of contaminated waste generated during the treatment of Ebola patients. DOT may grant a special permit if the applicant can demonstrate that an alternative packaging will achieve a safety level that is at least equal to the safety level required under HMR or is consistent with the public interest if a required safety level does not exist. Emergency processing of special permits applies when the special permit is necessary to prevent significant injury to persons or property not preventable under normal processing, for immediate national security, or to prevent significant economic loss. To qualify for emergency processing, the application must meet specific criteria, justifications must be well documented, and describe the impact if the special permit is not granted.

PHMSA issued a non-site specific special permit (Special Permit DOT-SP 16279) to certain waste haulers, which authorizes the transportation in commerce of waste contaminated with or suspected of being contaminated with the Ebola virus for disposal. Other waste haulers not yet authorized under Special Permit DOT-SP 16279 may apply for party status in accordance with 49 CFR 107.107. If an entity needs a variance from the HMR, it must apply for a special permit as provided in 49 CFR part 107 subpart B.

The DOT's Pipeline and Hazardous Materials Safety Administration has provided the following guidance on the transportation of these materials:

• “DOT Guidance for Preparing Packages of Ebola Contaminated Waste for Transportation and Disposal” provides guidance to prepare packages containing waste contaminated or suspected of being contaminated with the Ebola virus for transportation to off-site treatment and disposal. http://phmsa.dot.gov/staticfiles/PHMSA/DownloadableFiles/Files/suspected_ebola_patient_packaging_guidance_final.pdf.

• “DOT Guidance for Transporting Ebola Contaminated Items, a Category A Infectious Substance” provides common FAQs regarding the HMR requirements for Category A infectious substances. http://phmsa.dot.gov/portal/site/PHMSA/menuitem.6f23687cf7b00b0f22e4c6962d9c8789/?vgnextoid=4d1800e36b978410VgnVCM100000d2c97898RCRD&vgnextchannel=d248724dd7d6c010VgnVCM10000080e8a8c0RCRD&vgnextfmt=print.

• “Transporting Infectious Substances Safely” brochure that explains the HMR for transporting infectious substance is available at: http://www.phmsa.dot.gov/pv_obj_cache/pv_obj_id_54AC1BCBF0DFBE298024C4C700569893C2582700/filename/Transporting_Infectious_Substances_brochure.pdf.

• Special Permit DOT-SP 16279 provides certain carriers with alternative authorized packaging options for transporting waste contaminated or suspected of being contaminated with the Ebola virus for treatment and disposal. http://phmsa.dot.gov/staticfiles/PHMSA/DownloadableFiles/Files/DOT_SP_16279.pdf.

Additional Information

○ All Centers for Disease Control and Prevention guidance regarding the Ebola virus is available at: http://www.cdc.gov/vhf/ebola/hcp/index.html.

For questions on the HMR requirements, please contact the Pipeline and Hazardous Materials Safety Administration's (PHMSA's) Hazardous Materials Information Center at 1-800-467-4922, 9 a.m.-5 p.m. Eastern time.

Magdy El-Sibaie,
Associate Administrator for Hazardous Materials Safety, Pipeline and Hazardous Materials Safety Administration.

[FR Doc. 2014-25778 Filed 10-29-14; 8:45 am]

BILLING CODE 4910-60-P